DEPARTMENT OF THE INTERIOR

National Park Service

Notice of Intent to Repatriate Cultural Items: San Diego Archaeological Center, San Diego, CA

AGENCY: National Park Service, Interior.

ACTION: Notice.

Notice is here given in accordance with the Native American Graves Protection and Repatriation Act (NAGPRA), 25 U.S.C. 3005, of the intent to repatriate cultural items in the possession of the San Diego Archaeological Center, San Diego, CA, that meet the definition of sacred objects under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The 14 cultural items are 7 ceramic pipe fragments, 3 natural quartz crystals, 1 stone sucking tube or cloud blower pipe, 1 stone long-bodied projectile point, and 2 pieces of red ochre, which were excavated from 5 archeological sites in San Diego County, CA.

In 1991, site CA-SDI-5075 was excavated as part of a subdivision project near the community of Olivenhain, Carlsbad, in northern San Diego County, CA. Artifacts from the excavation were taken to the San Diego Archaeological Center in November 2000. When preparation for curation of the collection began in 2003, two ceramic pipe fragments were discovered among the other items.

In 1973, site CA-SDI-5699 was excavated as part of a development project in the City of Santee, in southeastern San Diego County, CA. Artifacts from the excavation were taken to the San Diego Archaeological Center, and were accessioned on October 12, 1998. One ceramic pipe fragment was discovered in the collection from site CA-SDI-5699. The San Diego Archaeological Center is currently engaged in long-term processing of this poorly documented collection and periodically notifies tribes after cultural items subject to NAGPRA are discovered.

On October 21, 1998, the San Diego Archaeological Center received a collection including one ceramic pipe fragment from a site designated CA-SDI-8022. There was no documentation with the collection and the only location name that is associated with this site is “Vista Serrena,” which is in the San Pasqual Valley area of San Diego County, CA. Preparation of the collection for curation began in 2003, and the ceramic pipe fragment was discovered at that time.

In 1994, the site designated CA-SDI-11453, located near the village of Sunnyside, San Diego County, CA, 1.4 km south of the Sweetwater Dam and 0.6 km east of the Sweetwater River was excavated by Brian F. Mooney & Associates for the California Department of Transportation as part of the proposed State Route 125. Three ceramic pipe fragments were part of the collection from CA-SDI-11453, accessioned by San Diego Archaeological Center in August 2000. The ceramic pipe fragments were discovered during the curation process.

In 1988, 1989, and 1995, the site designated CA-SDI-10998, also known as the Waldo site, located in the City of Lemon Grove, San Diego County, CA, in the floodplain of Spring Valley, was excavated by California Department of Transportation staff as part of the archeological testing for State Routes 54 and 125. One sucking tube or cloud blower pipe, two natural quartz crystals, one stone projectile point, and two pieces of red ochre were part of the collections received by the San Diego Archaeological Center on August 8, 2000, and on November 15, 2000. Site CA SDI-10998 is described in the archeology report as a short-term habitation site of the late Prehistoric period. The site is thought to be a satellite or component of the contact-period village of Meti and falls within the traditional Kumeyaay (Tipai) territory. The cultural items were discovered by San Diego Archaeological Center staff while they prepared the collection for permanent curation. The cultural items were described in the archeological report as part of a shaman's cache, although they were found dispersed throughout the site.

In 2000, the site designated CA-SDI-14788, located near South Chollas Creek in southern San Diego County, CA, was excavated by Tierra Environmental Services as part of the development of the property. One quartz crystal was among the collection taken to the San Diego Archaeological Center in September 2000 for curation. The crystal was discovered during preparation of the collection for curation. Monitoring and some data recovery was conducted pursuant to the California Environmental Quality Act. Radiocarbon dates place habitation of the site between about 650 years B.P. and the modern period (1940-1950).

Archeological evidence, including artifacts typical of the late Prehistoric period (3500 B.P. to circa A.D. 1700) indicates that the sites described above are Native American. The sacred nature of the objects is indicated by archeological and historical literature, as well as oral historical evidence presented during consultation. Ceramic pipes, shaman's caches, natural quartz crystals, stone sucking tubes or cloud blower pipes, long-bodied stone projectile points, and red ochre are used in sacred ceremonies by the Kumeyaay. Archeological and historical literature and oral historical evidence presented during consultation confirms that all of the sites described above are located within traditional and historical Kumeyaay territory.

Officials of the San Diego Archaeological Center have determined that, pursuant to 25 U.S.C. 3001 (3)(C), the 14 cultural items described above are specific ceremonial objects needed by traditional Native American religious leaders for the practice of traditional Native American religions by their present-day adherents. Officials of the San Diego Archaeological Center also have determined that, pursuant to 25 U.S.C. 3001 (2), there is a relationship of shared group identity that can be reasonably traced between the sacred objects and the Barona Group of Capitan Grande Band of Mission Indians of the Barona Reservation, California; Campo Band of Diegueno Mission Indians of the Campo Indian Reservation, California; Ewiiaapaayp Band of Kumeyaay Indians, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

Representatives of any other Indian tribe that believes itself to be culturally affiliated with the sacred objects should contact Cindy Stankowski, Director, San Diego Archaeological Center, 16666 San Pasqual Valley Road, Escondido, CA 92027, before April 26, 2004. Repatriation of the sacred objects to the Kumeyaay Cultural Repatriation Committee on behalf of the Barona Group of Capitan Grande Band of Mission Indians of the Barona Reservation, California; Campo Band of Diegueno Mission Indians of the Campo Indian Reservation, California; Ewiiaapaayp Band of Kumeyaay Indians, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California may proceed after that date if no additional claimants come forward.

The San Diego Archaeological Center is responsible for notifying the Kumeyaay Cultural Repatriation Committee; Barona Group of Capitan Grande Band of Mission Indians of the Barona Reservation, California; Campo Band of Diegueno Mission Indians of the Campo Indian Reservation, California; Ewiiaapaayp Band of Kumeyaay Indians, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California that this notice has been published.

Dated: January 28, 2004.
John Robbins,
Assistant Director, Cultural Resources.

[FR Doc. 04-6645 Filed 3-24-04; 8:45 am]

BILLING CODE 4310-50-S